DEPARTMENT OF LABOR

Employment and Training Administration

Labor Certification Process for Temporary Agricultural Employment of Nonimmigrant Workers in the United States (H-2A Workers); H-2A On-line Application Processing System; Formal Briefing

AGENCY: Employment and Training Administration, Labor.

ACTION: Notice

SUMMARY: As the result of the General Accounting Office (GAO) recommendation to the Secretary of Labor on ways to improve the H-2A Program, the Department of labor (DOL) has designed an H-2A case management system to improve data tracking and reporting capabilities. The system will also provide a user-friendly platform for the Regional Office staff and the regulated community to enter application data. The Division of Foreign Labor Certification, Employment and Training Administration (ETA), Department of Labor, announces a formal briefing to demonstrate to agricultural employers and the interested parties the new On-Line Application Processing System. The briefing will allow ETA to demonstrate to the regulated community, i.e., employers, attorneys, agents and associations, the benefits of the online application completion module.

DATES: The briefing date is: Friday, December 5, 2003; 9:30 a.m. to 4 p.m., Monterrey, CA.

Notices of intention to appear at the briefing must be postmarked no later than November 26, 2003.

ADDRESSES: The briefing location is: Hilton Monterey, 1000 Oguajito road, Monterey, CA 93940

Send notices of intention to appear to: Charlene Giles, U.S. Department of Labor, 200 Constitution Avenue, NW., Room C-4318, Washington, DC 20210. Notice also may be faxed to Charlene Giles at 202-693-2769 (this is not a toll-free number), or submitted by e-mail at dflc.onp@dol.gov.

ADDITIONAL BRIEFINGS: In the near future, the Division of Foreign Labor Certification, Employment and Training Administration (ETA), Department Labor, will announce additional locations for formal briefings to be held on the East Coast in January 2004.

FOR FURTHER INFORMATION CONTACT: Charlene Giles; telephone 202-693-2950. This is not a toll-free number.

SUPPLEMENTARY INFORMATION: The information public briefings will be chaired by a senior official of the Employment and Training Administration. Persons appearing at the briefings will be allowed a hands on experience with the system and to pose questions to Department staff.

Signed at Washington, DC, this 5th day of November, 2003.
Emily Stover DeRocco,
Assistant Secretary for Employment and Training.

[FR Doc. 03-28297 Filed 11-10-03; 8:45 am]

BILLING CODE 4510-30-M